DEPARTMENT OF STATE

[Public Notice 5389]

U.S. Advisory Commission on Public Diplomacy; Notice of Meeting

The U.S. Advisory Commission on Public Diplomacy will hold a meeting on May 15, 2006, in the U.S. Embassy Conference Room, at the U.S. Embassy in Bogota, Colombia, Calle 22D-BIS, No. 47-51. The meeting will be from 10:30 a.m to 11:15 a.m. The Commissioners will discuss public diplomacy issues and hear from experts on U.S.-Colombian relations.

The Commission was reauthorized pursuant to Public Law 109-108. (H.R. 2862, Science, State, Justice, Commerce, and Related Agencies Appropriations Act, 2006). The U.S. Advisory Commission on Public Diplomacy is a bipartisan Presidentially appointed panel created by Congress in 1948 to provide oversight of U.S. Government activities intended to understand, inform and influence foreign publics. The Commission reports its findings and recommendations to the President, the Congress and the Secretary of State and the American people. Current Commission members include Barbara M. Barrett of Arizona, who is the Chairman; Harold Pachios of Maine; Ambassador Penne Percy Korth of Washington, DC; Ambassador Elizabeth Bagley of Washington, DC; Charles “Tre” Evers of Florida; Jay T. Snyder of New York; and Maria Sophia Aguirre of Washington, DC.

Seating is limited. To attend the meeting and for more information, please contact Carl Chan at (202) 203-7880, or (202) 203-7883.

Dated: April 27, 2006.
Carl Chan,
Interim Executive Director, ACPD, Department of State.

[FR Doc. E6-7025 Filed 5-5-06; 8:45 am]

BILLING CODE 4710-11-P